FEDERAL COMMUNICATIONS COMMISSION

Notice of Public Information Collection(s) Being Reviewed by the Federal Communications Commission, Comments Requested

January 16, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 29, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0624.

Title: Section 24.103(f), Amendment of the Commission's Rules to Establish New Personal Communications Services.

Form No.: N/A.

Type of Review: Revision of a currently approved collection.

Respondents: Individuals or households, business or other for-profit, not-for-profit institutions, and State, local or tribal government.

Number of Respondents: 8.

Estimated Time Per Response: 250 hours for nationwide licensees, 50 hours for each regional licensee and 25 hours for each MTA licensee.

Frequency of Response: Recordkeeping requirement and every 10 year, 5 years and 1 year reporting requirement (depending upon the license requirement).

Total Annual Burden: 770 hours.

Total Annual Cost: N/A.

Needs and Uses: Section 24.103 requires certain narrowband PCS licensees to notify the Commission at specific benchmarks that they are in compliance with construction requirements in order to ensure that licensees quickly construct their systems and provide substantial service to licensed areas. Further the reporting and recordkeeping requirements under Section 24.103 will be used to determine whether the proposed partitionee or disaggregate is an entity qualified to obtain a partitioned license or disaggregated spectrum. The Commission is revising this collection because we are planning to combine this information collection with 3060-0625, Amendment of the Commission's Rules to Establish New Personal Communications Services under part 24. Without this information, the Commission would not be able to carry out its statutory responsibilities.

Federal Communications Commission.
Marlene H. Dortch,
Secretary.

[FR Doc. 04-1750 Filed 1-27-04; 8:45 am]

BILLING CODE 6712-01-P